DEPARTMENT OF TRANSPORTATION

Pipeline and Hazardous Materials Safety Administration

[Docket No. PHMSA-2007-28285; Notice No. 07-4]

Safety Advisory: Removal From Service of Liner-Less, Fully-Wrapped Fiberglass Composite Cylinders

AGENCY: Pipeline and Hazardous Materials Safety Administration (PHMSA), DOT.

ACTION: Safety advisory notice—Removal from service.

SUMMARY: Recently, five (5) 33-pound propane cylinders authorized under DOT Special Permit (DOT-SP 13957) ruptured during storage at a facility in Miami, Florida. The purpose of this notice is to alert owners and users of certain cylinders manufactured under this special permit to potential safety problems and to advise them to remove the cylinders from service as outlined in this notice. Also, PHMSA requests information on any other failures or leakage of lading, involving all cylinders made under DOT-SP 13957, which include 10-pound, 20-pound, and 33-pound cylinders, that may not have been previously reported to the agency.

FOR FURTHER INFORMATION CONTACT: Cheryl West Freeman, Office of Hazardous Materials Technology, (202) 366-4545 or Wayne Chaney, Office of Hazardous Materials Enforcement, (202) 834-3568, Pipeline and Hazardous Materials Safety Administration, U.S. Department of Transportation, 1200 New Jersey Avenue, SE., Washington DC 20590; or by e-mail to HM-Enforcement@dot.gov and referring to the Docket and Notice numbers set forth above.

SUPPLEMENTARY INFORMATION: PHMSA has been notified of the rupture of five (5) 33-pound liner-less, fully wrapped fiberglass composite cylinders. The cylinders are of two-part construction, which are adhesively joined to form the completed cylinder. The cylinders have a permanently attached thermoplastic outer casing which provides protection from impact damage and serves as a carry handle. The ruptured cylinders were manufactured by The Lite Cylinder Company Incorporated (TLCCI) in Franklin, Tennessee, under DOT-SP 13957, in January 2007. The cylinders are marked DOT-SP 13957 followed by the service pressure, 294 psig. All of the failed cylinders were 33-pound cylinders, which were typically horizontally mounted to fuel forklift trucks. The cylinders were in liquefied petroleum gas (propane) service.

The ruptures occurred during storage at the Heritage Propane facility in Miami, Florida. All cylinders involved were in storage on an outside platform and had been filled with propane. The first cylinder ruptured on April 4, 2007. The second cylinder ruptured on April 10, 2007. The third incident involved the rupture of three cylinders on April 13, 2007. The serial numbers were 14674, 14750, 14757, 14866, and 14881. The dates of manufacture were from January 16 to January 18, 2007. There were no injuries or property damage associated with any of the failures. PHMSA is currently conducting an investigation to determine the cause of the failures and the full scope of problems in the manufacturing process.

In order to avoid any potential injury or damage, PHMSA is removing from service all cylinders of the same design as those involved in the incidents. Any person who owns, uses, fills, or retests a 33-pound propane cylinder marked DOT-SP 13957 should take the following actions:

1. Do not vent the cylinder. Have only qualified persons safely discharge and purge the cylinder.

2. Send the empty cylinders to the manufacturer at the following address: T.L.C.C.I., Incorporated, 112 Alpha Drive, Franklin, TN 37064.

3. Provide the serial number of each returned cylinder to PHMSA at the contact address. Please note any problems that may have been witnessed with the cylinder (e.g. leaking, damage, etc.).

4. Under no circumstances should a cylinder described in this safety advisory be filled, refilled, or used for the transportation of hazardous materials.

Any person who is aware of the rupture of any cylinder, 10-pound, 20-pound, or 33-pound, marked DOT-SP 13957, is requested to contact PHMSA, through one of the individuals or e-mail address listed under the FOR FURTHER INFORMATION CONTACT section above, as soon as possible.

This safety advisory is available for review on the Internet by accessing the HazMat Safety Homepage at http://hazmat.dot.gov.

Issued in Washington, DC, on May 18, 2007.
Theodore L. Willke,
Acting Associate Administrator for Hazardous Materials Safety.

[FR Doc. E7-10081 Filed 5-23-07; 8:45 am]

BILLING CODE 4910-60-P